FEDERAL COMMUNICATIONS COMMISSION

47 CFR Part 15

[ET Docket No. 18-295, GN Docket No. 17-183; FCC 26-1; FR ID 331554]

Unlicensed Use of the 6 GHz Band; Expanding Flexible Use in Mid-Band Spectrum Between 3.7 and 24 GHz

AGENCY: Federal Communications Commission.

ACTION: Proposed rule.

SUMMARY: In this document, the Federal Communications Commission (Commission or FCC) issued a Third Further Notice of Proposed Rulemaking to seek comment on two proposals to improve 6 GHz band (5.925-7.125 GHz) unlicensed device performance. One proposal would allow automated frequency coordination (AFC) systems to take into account building entry loss (BEL) when determining frequency and power-level availability for access points that are authorized to operate in both standard power and LPI modes—i.e., composite indoor/standard-power access points. This will provide stronger signals and better coverage inside homes and buildings, without increasing the risk of harmful interference to licensed services that share the 6 GHz band. Another proposal would allow low-power indoor access points to operate on cruise ships. These devices were previously banned on boats, but the Commission believes the risk of harmful interference occurring from this application is low because cruise ships are few in number and their thick metal walls block signals from escaping. The Commission also seeks comment broadly on any changes that could be made to the 6 GHz band unlicensed rules to reflect technological and business developments since the rules were first adopted in 2020.

DATES: Comments are due on or before March 23, 2026 and reply comments are due on or before April 21, 2026.

ADDRESSES: Pursuant to §§ 1.415 and 1.419 of the Commission's rules, 47 CFR 1.415, 1.419, interested parties may file comments and reply comments on or before the dates provided in the DATES section of this document. Comments may be filed using the Commission's Electronic Comment Filing System (ECFS). See Electronic Filing of Documents in Rulemaking Proceedings, 63 FR 24121 (1998). You may submit comments, identified by ET Docket No. 18-295 and GN Docket No. 17-183, by any of the following methods:

• Electronic Filers: Comments may be filed electronically using the internet by accessing the ECFS: https://www.fcc.gov/ecfs.

• Paper Filers: Parties who choose to file by paper must file an original and one copy of each filing.

• Filings can be sent by hand or messenger delivery, by commercial courier, or by the U.S. Postal Service. All filings must be addressed to the Secretary, Federal Communications Commission.

• Hand-delivered or messenger-delivered paper filings for the Commission's Secretary are accepted between 8:00 a.m. and 4:00 p.m. by the FCC's mailing contractor at 9050 Junction Drive, Annapolis Junction, MD 20701. All hand deliveries must be held together with rubber bands or fasteners. Any envelopes and boxes must be disposed of before entering the building.

• Commercial courier deliveries (any deliveries not by the U.S. Postal Service) must be sent to 9050 Junction Drive, Annapolis Junction, MD 20701. Filings sent by U.S. Postal Service First-Class Mail, Priority Mail, and Priority Mail Express must be sent to 45 L Street NE, Washington, DC 20554.

• People with Disabilities: To request materials in accessible formats for people with disabilities (braille, large print, electronic files, audio format), send an email to fcc504@fcc.gov or call the Consumer & Governmental Affairs Bureau at 202-418-0530.

FOR FURTHER INFORMATION CONTACT: Nicholas Oros of the Office of Engineering and Technology, Policy and Rules Division, at 202-418-0636 or Nicholas.Oros@fcc.gov.

SUPPLEMENTARY INFORMATION: This is a summary of the Commission's Third Further Notice of Proposed Rulemaking (Third FNPRM), in ET Docket No. 18-295 and GN Docket No. 17-183, FCC 26-1, adopted on January 29, 2026, and released on January 30, 2026. The full text of this document is available for public inspection and can be downloaded at https://docs.fcc.gov/public/attachments/FCC-26-1A1.pdf. Alternative formats are available for people with disabilities (Braille, large print, electronic files, audio format) by sending an email to fcc504@fcc.gov or calling the Commission's Consumer and Governmental Affairs Bureau at (202) 418-0530 (voice).

Ex Parte Presentations. The proceeding this document initiates shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Regulatory Flexibility Act. The Regulatory Flexibility Act of 1980, as amended (RFA) requires that an agency prepare a regulatory flexibility analysis for notice and comment rulemakings, unless the agency certifies that “the rule will not, if promulgated, have a significant economic impact on a substantial number of small entities.” Accordingly, the Commission has prepared an Initial Regulatory Flexibility Analysis (IRFA) concerning the possible/potential impact of rule and policy proposals on small entities in the FCC document. The IRFA is found in Appendix D of the FCC document, https://www.fcc.gov/document/fcc-votes-enable-better-faster-wi-fi-and-next-gen-connectivity-0. The Commission invites the general public, particularly small businesses, to comment on the IRFA. Comments must be filed by the deadlines for comments on the Notice of Proposed Rulemaking indicated on the first page of this document and must have a separate and distinct heading designating them as responses to the IRFA.

Paperwork Reduction Act. This document does not contain proposed information collection subject to the Paperwork Reduction Act of 1995, 44 U.S.C. 3501-3521. In addition, therefore, it does not contain any proposed information collection burden for small business concerns with fewer than 25 employees, pursuant to the Small Business Paperwork Relief Act of 2002, 44 U.S.C. 3506(c)(4).

Providing Accountability Through Transparency Act: Consistent with the Providing Accountability Through Transparency Act, Public Law 1189-9, a summary of the Notice of Proposed Rulemaking will be available at https://www.fcc.gov/proposed-rulemakings.

Synopsis

In this document, the Commission issues a Third Further Notice of Proposed Rulemaking (Third FNPRM) that seeks comment on proposals that could provide more utility for unlicensed devices in the 6 GHz band. Specifically, the Commission seeks comment on a proposal to allow composite standard-power/low power indoor (LPI) access points that operate under the control of an Automated Frequency Coordination (AFC) system to operate with additional power under certain circumstances. Because these access points are restricted to indoor operations, they will be able to operate at higher power than what an AFC would allow for outdoor standard-power access points at the same location without presenting a significant risk of harmful interference. The additional power will enable composite standard-power/LPI access points to increase indoor coverage and provide more versatility to American consumers. The Commission also seeks comment on a proposal to permit LPI access points to operate on cruise ships. Although the Commission prohibited the operation of LPI access points on boats in the 6 GHz First Order (85 FR 31390, May 26, 2020), the Commission notes that the risk of harmful interference to Earth Exploration Satellite Service operations would be insignificant because of the limited number of cruise ships and the fact that transmissions from within cruise ships would be significantly attenuated by the thick metal walls of the ship. The Commission also notes that cruise ships need more spectrum for unlicensed device operation because they have thousands of passengers within a relatively small footprint.

Use of Building Entry Loss by AFC Systems

In this document, the Commission proposes to allow AFC systems to take into account building entry loss (BEL) when determining frequency and power-level availability for access points that are authorized to operate in both standard power and LPI modes—i.e., composite indoor/standard-power access points. In a Public Notice approving conditional operation for the first seven AFC systems, the Office of Engineering and Technology (OET) recognized that BEL could be an input to any predictive propagation model to determine permitted power levels for 6 GHz standard-power devices. However, OET took no position on whether to permit AFC systems to account for BEL in their calculations. OET stated that it may consider waiver requests by AFC operators to use BEL in their calculations as long as the waiver request provides full support for how standard power devices will be constrained to indoor locations, how interference protection to incumbent spectrum users will be provided, and any arrangements by the AFC operators to ensure that indoor versus outdoor location data is being properly transmitted, interpreted, and acted on appropriately. In response, the Wi-Fi Alliance, Broadcom Inc., Sony, Comsearch, C3Spectra, Federated Wireless, Qualcomm, and AXON Networks filed waiver requests to input BEL into their AFC system propagation models when assessing frequency availability and power constraints for composite indoor/standard-power access points. In the waiver requests, the companies explained that their respective AFC systems were capable of distinguishing between indoor composite indoor/standard-power access points and stand-alone standard power access points based on the FCC identification number and certified equipment class information.

On March 21, 2023, OET issued a Public Notice soliciting comments on the Wi-Fi Alliance Waiver Request. The Commission received comments from numerous parties in favor of allowing AFC systems to adjust their calculations to incorporate BEL, as well as from parties representing microwave licensees' interests raising concerns about potential harmful interference. Broadcom pointed out that including BEL in AFC system calculations ensures indoor-only access points “are not needlessly constrained to much lower power or channel availability than is necessary” to keep the signal received from the access point from exceeding the conservative −6 dB I/N interference protection criterion for standard power operations. NCTA—The Internet and Television Association (NCTA) explained that “composite devices designed for indoor-only use will allow consumers and businesses to experience the benefits of enhanced 6 GHz coverage, throughput, and speed.” Dynamic Spectrum Alliance (DSA) emphasized that indoor-only composite devices can help satisfy the growing demand for affordable and enhanced broadband access by allowing efficient 6 GHz band unlicensed use.

Several commenters representing incumbent users sought additional information on how AFC systems can ensure that composite devices would only operate indoors and protect fixed microwave incumbents from harmful interference. Commenters, including AT&T, the Utilities Technology Council (UTC), Southern, the Association of Public-Safety Communications Officials, International (APCO), and NWCC, also raised harmful interference concerns. For example, UTC claimed that taking BEL into consideration poses a risk because there is a “mountain of evidence that LPI devices are certain to cause interference.” AT&T also raised concerns regarding potential interference caused by communication between standard-power client devices operating outdoors and composite indoor/standard-power access points operating indoors. APCO expressed interference concerns in its filing, questioning how public safety communications will be protected from harmful interference.

On December 5, 2024, OET granted waiver relief to the Wi-Fi Alliance, Broadcom, Sony, Federated Wireless, and Qualcomm to include BEL into their respective AFC systems' predictive propagation models. Waiver relief was also granted to Comsearch and C3Spectra on May 20, 2025. To ensure that harmful interference to authorized operations and other spectrum users would not occur, OET required that the AFC systems be capable of identifying composite indoor/standard-power access points based on the FCC identification number and certified Equipment Class information provided by a standard-power access point spectrum inquiry request. In addition, OET only permitted the AFC systems to incorporate building entry loss up to and including 6 dB in their predictive propagation model calculations limited to a spectrum inquiry request initiated from a composite indoor/standard-power access point.

The Commission proposes to update its rules consistent with the waivers OET granted to permit the AFC operators to take BEL into consideration in their calculations. The Commission proposes to adopt rules that will require AFC systems to be capable of identifying composite indoor/standard-power access points based on the FCC ID provided by the access point during registration and certified equipment class information obtained from the Commission's Equipment Authorization System in order to be eligible to apply BEL in their propagation calculations. Only upon confirmation that a device is certified as a composite indoor/standard-power access point can the AFC system assume no more than 6 dB of BEL when it provides frequency and power-level information to that device. Allowing the AFC systems to consider BEL when determining frequency availability will increase the composite indoor/standard-power access point operating power when appropriate, thereby increasing their utility to consumers. The greater operating power will enable the access points to provide increased indoor coverage and/or provide higher data rates. This will expand the use of the 6 GHz band, thereby furthering the Commission's goal to encourage more efficient spectrum use. The Commission seeks comment on its proposal. Are there any other factors that need to be taken into consideration to permit the AFC systems to apply BEL in their calculations?

The Commission seeks comment on whether 6 dB is the correct amount of BEL attenuation to permit the AFC systems to use in their calculation for composite indoor/standard-power access points or whether the 6 dB accommodation the Commission made in the waiver grants can be increased. What is the harmful interference risk, if any, to licensed incumbents associated with increasing the amount of BEL an AFC can use when it provides frequency and power-level information to a composite indoor/standard-power access point? What are the advantages and disadvantages of allowing a higher BEL attenuation? What tangible risks, if any, would there be for harmful interference occurring if the AFC systems use a BEL greater than 6 dB in their calculations? Should the Commission require AFC operators to use a particular methodology to determine the appropriate amount of BEL for a given composite indoor/standard-power access point and, if so, what should that methodology be? Alternatively, should AFC operators have discretion to determine the amount of BEL to apply up to 6 dB? If AFC operators should have such discretion, what factors should they be required to take into consideration when determining the amount of BEL to apply?

Low Power Indoor Access Points on Cruise Ships

In the 6 GHz First Order, the Commission prohibited LPI access point operation on boats. The Commission noted that according to the National Academy of Science's Committee on Radio Frequency, the 6.425-7.075 GHz and 7.075-7.250 GHz bands are used for remote sensing by the Earth Exploration Satellite Service, including over oceans. The Commission explained that it was prohibiting LPI access point use on boats because of the lack of building attenuation when the access points are used indoors and to protect Earth Exploration Satellite Service operations over the oceans.

Cisco Systems (Cisco) requests that the Commission modify its prohibition on shipborne LPI access points by creating an exception for cruise ships. According to Cisco, “there is insufficient spectrum available in large congested indoor common areas of cruise ships, such as restaurants, casinos, theaters, and promenades[,] [which] can impact Wi-Fi performance.” Cisco explains that the inability to access the 6 GHz band limits the available non-overlapping Wi-Fi channels leading to increased co-channel and adjacent channel interference and that access to the entire 6 GHz band would increase the likelihood of achieving gigabit speeds in the dense environment. Cisco also points out that “signals within cruise ships experience high building entry loss (`BEL') due to the vessels' thick metal walls and thermally efficient glass windows.” Cisco claims that “[c]ruise ships are also likely have far higher BEL than traditional land-based hotels, which do not have walls made of metal.”

The Commission proposes to amend its rules to permit LPI access points to operate on cruise ships. As Cisco has pointed out, transmissions made from within cruise ships are likely to experience significant attenuation from the thick metal walls of the cruise ship, thereby reducing the risk of harmful interference to Earth Exploration Satellite Service operations. In addition, there are a limited number of cruise ships. The Commission appreciates the need for additional spectrum for unlicensed device operation on board cruise ships considering that many of these ships have thousands of passengers contained within a relatively small footprint. The Commission seeks comment on this proposal. What impact will the operation of LPI access points on cruise ships have on Earth Exploration Satellite Service measurements made over the oceans?

The Commission proposes limiting this exception to its rules to cruise ships for two reasons. First, smaller boats may have less substantial construction with reduced BEL that could present a greater interference risk to Earth Exploration Satellite Service operations. Second, completely removing the prohibition on LPI use on boats would greatly increase the amount of LPI use over the oceans, which would increase the potential risk to the Earth Exploration Satellite Service. For purposes of this rule exception, the Commission proposes to adopt the definition of cruise ships in 33 CFR 101.105:

Cruise Ship means any vessel over 100 gross register tons, carrying more than 12 passengers for hire which makes voyages lasting more than 24 hours, of which any part is on the high seas. Passengers from cruise ships are embarked or disembarked in the U.S. or its territories. Cruise ships do not include ferries that hold Coast Guard Certificates of Inspection endorsed for “Lakes, Bays, and Sounds”, that transit international waters for only short periods of time on frequent schedules.

The Commission seeks comment on limiting the exception to the prohibition on use of LPI access points on boats to cruise ships as defined in 33 CFR 101.105. Should the Commission's rules reflect a more or less restrictive definition of cruise ships? Would specifying a larger number of passengers in the cruise ship definition be appropriate because only larger cruise ships will have a need for increased Wi-Fi spectrum? Would it be appropriate to permit LPI access points to be used on other types of boats?

Updating the Existing 6 GHz Band Unlicensed Rules

In the five years since the Commission adopted rules for standard power and low power indoor devices, the 6 GHz band has become an essential part of the unlicensed device ecosystem. More than 5000 different Wi-Fi device models that support the 6 GHz band were released between 2021 and 2024. Now that 6 GHz band unlicensed devices have become widely deployed, the Commission believes that it is appropriate to consider whether any adjustments are needed to the 6 GHz band unlicensed rules to encourage further innovation. The Commission seeks comment broadly on any changes that could be made to the 6 GHz band unlicensed rules to reflect technological and business developments since the rules were first adopted in 2020. These rule modifications could involve any of the categories of 6 GHz band unlicensed devices: standard power access points, indoor access points, geofenced variable power access point, or client device as well as the AFC and geofencing systems.

Benefits and Costs

The Commission seeks comment on whether the proposed rules discussed above would generate benefits that outweigh the associated costs. The Commission tentatively concludes that the proposed rules will yield modest benefits, including a one-time cost savings of $4,800 from streamlining the AFC waiver application process and a recurring annual benefit of $35.6 million. The Commission seeks comment on these preliminary assessments and request that commenters provide applicable estimates with supporting data and statistics.

Benefits. The Commission anticipates that these proposed rule changes—permitting AFC systems to account for BEL and authorizing LPI access point operation aboard cruise ships—would result in modest economic benefits of approximately $4,800 in one-time cost savings and $35.6 million in annual benefit to society as a whole. Eight AFC operators have filed waiver requests to incorporate BEL into their AFC system propagation models, and seven of those operators have been granted waiver relief. Because OET has authority to grant such waivers on an individual basis, updating the Commission's rules to align with the relief already granted would not materially alter current BEL adjustment practices. The primary impact of the proposed rule change would be creating regulatory certainty and reducing the time and resources that AFC operators and the Commission are required to devote to the waiver application and review process. To date, the Commission has conditionally approved fifteen AFC systems. Excluding the seven AFC operators already granted the waivers, the Commission estimates that up to eight additional AFC operators could benefit from the time savings associated with eliminating the need for individual waiver requests. Further, the Commission assumes that operators will rely on outside counsel to file waiver requests at the hourly rate of an attorney at $300/hour. The Commission assumes that each waiver requires two hours of work by an attorney and calculate the potential cost savings from reduced waiver burdens as follows: 1 attorney × $300/hour × 2 hours × 8 operators = $4,800. This estimate is conservative, as it does not account for potential cost savings resulting from reduced internal communications, including those that may require engineering input or consultation between operators and outside counsel. Based on this analysis, the Commission believes that its proposals to streamline the waiver process will result in a one-time cost savings of approximately $4,800.

On the other hand, the Commission finds that permitting LPI operation on cruise ships would result in higher economic benefits by enabling cruise ship passengers to remain connected throughout their voyages in a more cost-efficient manner. The Commission estimates that the proposed rules would contribute approximately $35.6 million in annual benefits. In 2025, approximately 19 million U.S. residents are expected to take cruise vacations, with an average trip duration of approximately 7.1 days. These cruise ship vacations account for approximately 0.11% of the aggregate annual American man-hours as calculated as follows: (19 million cruise ship passengers × 7.1 days)/(342 million U.S. population × 365 days) = 0.11%. Based on the economic analysis cited in prior Commission orders, authorizing LPI operation in 6 GHz is expected to contribute approximately $32.4 billion to the U.S. economy in 2025. Assuming that cruise ship passenger-time represents 0.11% of total U.S. consumers time, the Commission estimates the annual benefit attributable to LPI operation on board cruise ships as follows: $32.4 billion × 0.11% = $35,623,500, which the Commission rounds to $35.6 million. Taken together, the Commission expects that the proposed rules would result in a one-time benefit of approximately $4,800 from streamlining the consideration of BEL in AFC system applications and an annual benefits of approximately $35.6 million from permitting LPI device operation on board cruise ships.

Costs. For the proposed rule permitting AFC systems to account for BEL, the Commission anticipates that the rule will impose no additional costs on the public. While AFC operators may incur costs to reconfigure their systems to incorporate BEL into their propagation models and adjust coordination procedures accordingly, such costs would be incurred voluntarily only when operators determine that the expected benefits outweigh the associated cost. Therefore, the Commission does not separately account for these costs, as the Commission anticipates this proposal to be cost-neutral from a regulatory perspective. Moreover, the Commission expects that allowing AFC systems to account for BEL will not result in harmful interference to existing licensed operations. As such, the Commission anticipates no additional costs would be imposed on incumbent licensed users.

For the proposed use of LPI devices on board cruise ships, the Commission similarly anticipates no cost to the public. While the proposed rule may stimulate consumer demand for LPI devices to be used on board cruise ships, any associated consumer expenditures are expected to be captured by device manufacturers as producer surplus. Therefore, these expenditures represent a transfer within the economy rather than a net cost, and are not included in the Commission's cost estimates. The Commission recognizes that cruise ship operators may incur costs to install LPI access points indoors for use by passengers and crew. However, such installations are entirely voluntary, and operators are expected to proceed only when the expected benefits (e.g., premiums they can charge for the use) exceed the associated costs. Accordingly, the Commission considers this proposal to be cost-neutral from a regulatory standpoint. Based on this expectation, the Commission does not separately quantify the costs associated with voluntary adoption of LPI access points on board cruise ships. Meanwhile, the Commission anticipates that permitting LPI access points to operate on board cruise ships will not result in harmful interference to Earth Exploration Satellite Service operations. The expectation is based on the limited number of such ships and the substantial attenuation of indoor signals caused by the thick metal walls and internal structures of the vessels. Therefore, the Commission tentatively concludes that the proposed rules will not incur any substantial costs.

Ordering Clauses

It is ordered that, pursuant to sections 2, 4(i), 302, and 303 of the Communications Act of 1934, as amended, 47 U.S.C. 152, 154(i), 302a, 303, and the Third Further Notice of Proposed Rulemaking is hereby adopted.

It is ordered that the Office of the Secretary shall send a copy of the Third Further Notice of Proposed Rulemaking, including the Initial Regulatory Flexibility Analyses, to the Chief Counsel for Advocacy of the Small Business Administration.

It is ordered that the Office of Managing Director, Performance Program Management, shall send a copy of the Third Further Notice of Proposed Rulemaking in a report to be sent to Congress and the Government Accountability Office pursuant to the Congressional Review Act, 5 U.S.C. 801(a)(1)(A).

List of Subjects in 47 CFR Part 15

Communications equipment, Radio.

Federal Communications Commission.
Marlene Dortch,
Secretary.

Proposed Rules

For the reasons discussed in the preamble, the Federal Communications Commission proposes to amend 47 CFR part 15 as follows:

PART 15—RADIO FREQUENCY DEVICES

1. The authority citation for part 15 continues to read as follows:

Authority: 47 U.S.C. 154, 302a, 303, 304, 307, 336, 544a, and 549.

2. Amend § 15.407 by revising paragraphs (d)(1)(iii) and (d)(4) and adding paragraphs (k)(17) and (l)(1)(iv) to read as follows:

§ 15.407 General technical requirements.

* * * * *

(d) * * *

(1) * * *

(iii) Boats. Operation of standard power access points, fixed client devices, and indoor access points in the 5.925-7.125 GHz band is prohibited on boats, except that indoor access points are permitted to operate on cruise ships as defined in 33 CFR 101.105.

* * * * *

(4) In the 5.925-7.125 GHz band, indoor access points and subordinate devices must bear the following statement in a conspicuous location on the device and in the user's manual: FCC regulations restrict operation of this device to indoor use only. The operation of this device is prohibited on oil platforms, cars, trains, boats, and aircraft, except that operation of this device is permitted in large aircraft while flying above 10,000 feet and on cruise ships as defined in 33 CFR 101.105.

* * * * *

(k) * * *

(17) An AFC system must be capable of identifying composite indoor/standard-power access points based on the FCC ID provided by the access point during registration and certified equipment class information obtained from the Commission's Equipment Authorization System.

(l) * * *

(1) * * *

(iv) An AFC system may incorporate building entry loss up to and including 6 dB in its propagation model calculations in response to a spectrum inquiry request initiated from a composite low-power indoor/standard-power access point.

* * * * *

[FR Doc. 2026-03420 Filed 2-19-26; 8:45 am]

BILLING CODE 6712-01-P